DEPARTMENT OF COMMERCE

Census Bureau

Agency Information Collection Activities; Submission to the Office of Management and Budget (OMB) for Review and Approval; Comment Request; Census Military Panel

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection of the Military Panel prior to the submission of the information collection request (ICR) to OMB for approval.

DATES: To ensure consideration, comments regarding this proposed information collection must be received on or before April 7, 2023.

ADDRESSES: Interested persons are invited to submit written comments by email to adrm.pra@census.gov. Please reference Military Panel in the subject line of your comments. You may also submit comments, identified by Docket Number USBC-2023-0001, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Cassandra Logan, Survey Director, 301-763-1087, cassandra.logan@census.gov.

SUPPLEMENTARY INFORMATION:

I. Abstract

Early research and development work has demonstrated the value of a high-quality panel to improve representativeness and significantly reduce burden on respondents in the interest of collecting high-frequency data. The Military Panel is a national survey panel by the U.S. Census Bureau (Census) and the U.S. Department of Defense (DOD). Data collected from service members and their spouses on a variety of topics through the Panel will be used to improve military life and policies affecting active-service members and their families. The panel will consist of active-duty service members and spouses of active-duty service members that have agreed to be contacted and invited to participate. The goal for the overall panel project is to recruit at least 2,000 panel members (1,000 service members and 1,000 spouses), with data collection taking place once every two months, through fiscal year 2025.

II. Method of Collection

A sample of 2,000 active-duty military members (1,000) and active duty military spouses (1,000) will be recruited from a frame provided by the Department of Defense. Potential panelists will be mailed invitations and asked to participate in an online or inbound telephone screener. If the respondent qualifies, they will be invited to join the panel by completing the baseline questionnaire in the same mode (online or inbound telephone). Households who do not respond to the mailed invitation will be in sample for telephone nonresponse follow up. In these cases, an interviewer would administer the screener and the baseline questionnaire. Once they join the panel, panelists will be eligible for online topical surveys every other month for up to 3 years.

The Census Bureau will conduct this information collection online using Qualtrics as the data collection platform. Qualtrics currently is used at the Census Bureau for research and development surveys and provides the necessary agility to deploy the Household Pulse Survey quickly and securely. It operates in the Gov Cloud, which is FedRAMP authorized at the moderate level, and has an Authority to Operate from the Census Bureau to collect personally identifiable and Title-protected data.

Responses will be collected using Qualtrics and panelists will be able to respond online. Panel recruitment will consist of mail, SMS and email contacts.

III. Data

OMB Control Number: 0607-XXXX.

Form Number(s): Not yet determined.

Type of Review: Regular submission, new information collection request.

Affected Public: Individuals or households.

Screening Operation

Estimated Number of Respondents: 15,625.

Estimated Time per Response: 10 minutes per respondent.

Estimated Annual Screening Burden Hours: 2,604 per year.

Data Collection

Estimated Number of Respondents: 2,000.

Estimated Time per Response: 20 minutes per response bi-monthly per respondent for a maximum of 2 hours per respondent per year.

Estimated Annual Data Collection Burden Hours: 4,000 per year.

Estimated Total Annual Burden Hours: 6,604 per year.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: The Census Bureau, on behalf of the Department of Defense, is conducting this study under the authority of 10 U.S.C. 1782. Privacy is protected by the Privacy Act of 1974 (5 U.S.C. 552a).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2023-02475 Filed 2-3-23; 8:45 am]

BILLING CODE 3510-07-P